DEPARTMENT OF COMMERCE

National Oceanic and Atmospheric Administration

Proposed Information Collection; Comment Request; Atlantic Highly Migratory Species Vessel Logbooks and Cost-Earnings Data Reports

AGENCY: National Oceanic and Atmospheric Administration (NOAA), Commerce.

ACTION: Notice.

SUMMARY: The Department of Commerce, as part of its continuing effort to reduce paperwork and respondent burden, invites the general public and other Federal agencies to comment on proposed and/or continuing information collections, as required by the Paperwork Reduction Act of 1995.

DATES: Written comments must be submitted on or before August 15, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Cliff Hutt, (301) 427-8503, or Cliff.Hutt@noaa.gov.

SUPPLEMENTARY INFORMATION:

I. Abstract

This request is for revision and extension of a current information collection. Under the provisions of the Magnuson-Stevens Fishery Conservation and Management Act (16 U.S.C. 1801 et seq.), the National Oceanic and Atmospheric Administration's (NOAA) National Marine Fisheries Service (NMFS) is responsible for management of the nation's marine fisheries. In addition, NMFS must comply with the Atlantic Tunas Convention Act of 1975 (16 U.S.C. 971 et seq.), under which the agency implements recommendations by the International Commission for the Conservation of Atlantic Tunas (ICCAT), as necessary and appropriate.

This information collection is being revised to include modified trip summary and cost-earnings logbook forms for the Atlantic Tunas General Category, Swordfish General Commercial, and Atlantic Highly Migratory Species (HMS) Charter/Headboat fisheries. Reporting burden associated with logbooks for the Atlantic Tunas General Category and HMS Charter/Headboat fisheries has been authorized under previous versions of this information collection, but the reporting burden associated with the Swordfish General Commercial permit is new as it was implemented only in 2014, and the category has not previously been selected for logbook reporting.

NMFS collects information via vessel logbooks to monitor the U.S. catch of Atlantic swordfish, sharks, billfish, and tunas in relation to the quotas, thereby ensuring that the United States complies with its domestic and international obligations. The HMS logbook program, OMB Control No. 0648-0371, was specifically designed to collect the vessel level information needed for the management of Atlantic HMS, and includes set forms, trip forms, negative reports, and cost-earning requirements for both commercial and recreational vessels. The information supplied through the HMS logbook program provides the catch and effort data on a per-set or per-trip level of resolution for both directed and incidental species. In addition to HMS fisheries, the HMS logbook program is also used to report catches of dolphin and wahoo by commercial and charter/headboat fisheries by vessels that do not possess other federal permits. Additionally, the HMS logbook collects data on incidental species, including sea turtles, which is necessary to evaluate the fisheries in terms of bycatch and encounters with protected species. While most HMS fishermen use the HMS logbook program, HMS can also be reported as part of several other logbook collections including the Northeast Region Fishing Vessel Trip Reports (0648-0212) and Southeast Region Coastal Logbook (0648-0016).

These data are necessary to assess the status of HMS, dolphin, and wahoo in each fishery. International stock assessments for tunas, swordfish, billfish, and some species of sharks are conducted through ICCAT's Standing Committee on Research and Statistics periodically and provide, in part, the basis for ICCAT management recommendations which become binding on member nations. Domestic stock assessments for most species of sharks and for dolphin and wahoo are used as the basis of managing these species.

Supplementary information on fishing costs and earnings has been collected via the HMS logbook program. This economic information enables NMFS to assess the economic impacts of regulatory programs on small businesses and fishing communities, consistent with the National Environmental Policy Act (NEPA), Executive Order 12866, the Regulatory Flexibility Act, and other domestic laws.

II. Method of Collection

Paper logbooks are the primary mode of reporting, but electronic logbooks will be offered on a voluntary basis for the HMS logbook in the near future. Both online and paper reporting options will likely be offered for the Atlantic Tunas General Category, Atlantic HMS Charter/Headboat, and Swordfish General Commercial logbooks.

III. Data

OMB Control Number: 0648-0371.

Form Number: NOAA Form 88-191.

Type of Review: Regular submission (renewal of a current information collection).

Affected Public: Business or other for-profit (vessel owners).

Estimated Number of Respondents: 9,215.

Estimated Time per Response: 10 minutes for cost/earnings summaries attached to logbook reports, 30 minutes for annual expenditure forms, 12 minutes for logbook catch trip and set reports, 2 minutes for negative logbook catch reports.

Estimated Total Annual Burden Hours: 37,440.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology including online or electronic reporting.

Comments submitted in response to this notice will be summarized and/or included in the request for OMB approval of this information collection; they also will become a matter of public record.

Dated: June 12, 2017.
Sarah Brabson,
NOAA PRA Clearance Officer.

[FR Doc. 2017-12460 Filed 6-15-17; 8:45 am]

BILLING CODE 3510-22-P